COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by nonprofit agencies employing persons who are blind or have other severe disabilities.

Comments Must be Received on or Before: 6/30/2014.

ADDRESSES: Committee for Purchase From People Who Are Blind or Severely Disabled, 1401 S. Clark Street, Suite 10800, Arlington, Virginia 22202-4149.

For Further Information or to Submit Comments Contact: Barry S. Lineback, Telephone: (703) 603-7740, Fax: (703) 603-0655, or email CMTEFedReg@AbilityOne.gov.

SUPPLEMENTARY INFORMATION: This notice is published pursuant to 41 USC 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN: 5340-00-NIB-0080—Desktop/Notebook Security Cable, Master-Coded Combination Lock Kit, 20 Lock Kits

NSN: 5340-00-NIB-0082—Desktop/Notebook Security Cable, Master-Keyed Lock Kit, 10 Lock Kits

NPA: Alphapointe, Kansas City, MO

Contracting Activity: Defense Logistics Agency Troop Support, Philadelphia, PA

Coverage: A-List for the Total Government Requirement as aggregated by the Defense Logistics Agency Troop Support, Philadelphia, PA

NSN: 6230-00-NIB-0052—Flashlight, Tactical, Lithium-Ion Rechargeable, Multi-color LEDs

NSN: 6230-00-NIB-0053—Penlight, Tactical-Style, LED, 2 AAA, 5″ long

NSN: 6230-00-NIB-0054—Flashlight, Tactical-Style, LED, 2 AAA, 6″ long

NPA: Central Association for the Blind and Visually Impaired, Utica, NY

Contracting Activity: Defense Logistics Agency Troop Support, Philadelphia, PA

Coverage: B-List for 100% of the Broad Government Requirement as aggregated by the Defense Logistics Agency Troop Support, Philadelphia, PA.

Socket Set

NSN: 5120-00-NIB-0111—¼ Drive Shallow, SAE 6 and 12 Point Fasteners, 10 Pieces

NSN: 5120-00-NIB-0112—¼ Drive Deep, SAE 6 and 12 Point Fasteners, 10 Pieces

NSN: 5120-00-NIB-0113—Combination, ¼ Drive Shallow, SAE 6 and 12 Point Fasteners, 14 Pieces

NSN: 5120-00-NIB-0114—⅜ Drive Shallow, SAE 12 Point Fasteners, 11 Pieces

NSN: 5120-00-NIB-0115—⅜ Drive Deep, SAE 12 Point Fasteners, 13 Pieces

NSN: 5120-00-NIB-0116—Combination, ⅜ Shallow, SAE 12 Point Fasteners, 18 Pieces

NSN: 5120-00-NIB-0117—½ Drive Shallow, SAE 6 and 12 Point Fasteners, 13 Pieces

NSN: 5120-00-NIB-0118—½ Drive Deep, SAE 12 Point Fasteners, 13 Pieces

NSN: 5120-00-NIB-0119—Combination, ½ Drive Shallow, SAE 12 Point Fasteners, 17 Pieces

NPA: Wiscraft, Inc., Milwaukee, WI

Contracting Activity: General Services Administration, Tools Acquisition Division I, Kansas City, MO

Coverage: B-List for the Broad Government Requirement as aggregated by the General Services Administration, Kansas City, MO.

Barry S. Lineback,
Director, Business Operations.

[FR Doc. 2014-12547 Filed 5-29-14; 8:45 am]

BILLING CODE 6353-01-P